SUSQUEHANNA RIVER BASIN COMMISSION

Actions Taken at June 7, 2012 Meeting

AGENCY: Susquehanna River Basin Commission.

ACTION: Notice.

SUMMARY: As part of its regular business meeting held on June 7, 2012, in Binghamton, New York, the Commission took the following actions: (1) Rescinded approval for one water resources project; (2) approved or tabled the applications of certain water resources projects; and (3) took additional actions as set forth in the Supplementary Information below.

DATES: June 7, 2012.

ADDRESSES: Susquehanna River Basin Commission, 1721 N. Front Street, Harrisburg, PA 17102-2391.

FOR FURTHER INFORMATION CONTACT: Richard A. Cairo, General Counsel, telephone: (717) 238-0423, ext. 306; fax: (717) 238-2436; email: rcairo@srbc.net. Regular mail inquiries may be sent to the above address. See also Commission web site at www.srbc.net.

SUPPLEMENTARY INFORMATION: In addition to its related actions on projects identified in the summary above and the listings below, the following items were also presented or acted on at the business meeting: (1) Election of the State of Maryland as the Chair and the federal government as the Vice Chair of the Commission for FY 2013; (2) extension of the comment period for the proposed Low Flow Protection Policy from May 16, 2012, to July 16, 2012; (3) adoption of a Water Resources Program for FY 2013-2014; (4) amendment of a Records Processing Fee Schedule to include an Information Technology Services Fee, effective July 1, 2012; (5) amendment of a Regulatory Program Fee Schedule, effective July 1, 2012; (6) authorization to refinance the Curwensville Water Storage Project; (7) adoption of a FY 2014 budget subject to future revision; (8) amendment of the Comprehensive Plan for the Water Resources of the Susquehanna River Basin; and (9) tabling of a request for an administrative hearing from Anadarko E&P Company, LP on a denial of approval for its Well PW-11.

Rescission of Project Approval

The Commission rescinded approval for the following project:

1. Project Sponsor and Facility: BAE Systems Controls, Town of Union, Broome County, NY (Docket No. 20030802).

Project Applications Approved

The Commission approved the following project applications:

1. Project Sponsor and Facility: Anadarko E&P Company LP (West Branch Susquehanna River), Piatt Township, Lycoming County, PA. Surface water withdrawal of up to 1.500 mgd (peak day).

2. Project Sponsor: Aqua Pennsylvania, Inc. Project Facility: Eagle Rock Utilities, Black Creek Township, Luzerne County, and Hazle Township, Schuylkill County, PA. Groundwater withdrawal of up to 0.220 mgd (30-day average) from Well ER-6, located in Black Creek Township, Luzerne County.

3. Project Sponsor and Facility: Aqua Infrastructure, LLC. Source approval of a regional water supply distribution system to natural gas operations centered in Lycoming County, PA.

4. Project Sponsor and Facility: Carrizo (Marcellus), LLC (Clearfield Creek), Reade Township, Cambria County, PA. Surface water withdrawal of up to 0.432 mgd (peak day).

5. Project Sponsor and Facility: Empire Kosher Poultry, Inc., Walker Township, Juniata County, PA. Modification to increase total groundwater system withdrawal by an additional 0.499 mgd, for a total of 1.269 mgd (30-day average) (Docket No. 20030809).

6. Project Sponsor and Facility: Jo Jo Oil Company, Inc. (Tunkhannock Creek), Tunkhannock Township, Wyoming County, PA. Surface water withdrawal of up to 0.999 mgd (peak day).

7. Project Sponsor and Facility: LDG Innovation, LLC (Tioga River), Lawrenceville Borough, Tioga County, PA. Modification to increase surface water withdrawal by an additional 0.375 mgd, for a total of 0.750 mgd (peak day) (Docket No. 20100311).

8. Project Sponsor and Facility: LHP Management, LLC (Muncy Creek), Muncy Creek Township, Lycoming County, PA. Surface water withdrawal of up to 0.999 mgd (peak day).

9. Project Sponsor and Facility: LHP Management, LLC (West Branch Susquehanna River), Muncy Creek Township, Lycoming County, PA. Surface water withdrawal of up to 3.000 mgd (peak day).

10. Project Sponsor and Facility: Mountain Country Energy Services, Inc. (Driftwood Branch Sinnemahoning Creek), Lumber Township, Cameron County, PA. Extension of Docket No. 20081213.

11. Project Sponsor and Facility: Niagara Gas & Oil Services Inc. (Susquehanna River), Athens Township, Bradford County, PA. Surface water withdrawal of up to 0.999 mgd (peak day).

12. Project Sponsor and Facility: Northeast Natural Energy LLC (West Branch Susquehanna River), Cooper Township, Clearfield County, PA. Surface water withdrawal of up to 0.500 mgd (peak day).

13. Project Sponsor and Facility: Northwestern Lancaster County Authority, Penn Township, Lancaster County, PA. Groundwater withdrawal of up to 0.324 mgd (30-day average) from Well 2 and of up to 0.617 mgd (30-day average) from Well 3.

14. Project Sponsor and Facility: Rausch Creek Land, L.P., Porter Township, Schuylkill County, PA. Groundwater withdrawal of up to 0.100 mgd (30-day average) from Pit #21.

15. Project Sponsor and Facility: RES Coal LLC (Clearfield Creek), Boggs Township, Clearfield County, PA. Surface water withdrawal of up to 0.275 mgd (peak day) and consumptive water use of up to 0.275 mgd (30-day average).

16. Project Sponsor and Facility: Roger D. Jarrett (West Branch Susquehanna River), Muncy Creek Township, Lycoming County, PA. Surface water withdrawal of up to 2.000 mgd (peak day).

17. Project Sponsor and Facility: Southwestern Energy Production Company (East Branch Tunkhannock Creek), Lenox Township, Susquehanna County, PA. Surface water withdrawal of up to 1.500 mgd (peak day).

18. Project Sponsor and Facility: SWEPI LP (Chemung River), Town of Big Flats, Chemung County, NY. Renewal of surface water withdrawal of up to 0.107 mgd (peak day) (Docket No. 20080604).

19. Project Sponsor and Facility: SWEPI LP (Cowanesque River), Lawrence Township, Tioga County, PA. Surface water withdrawal of up to 0.942 mgd (peak day).

20. Project Sponsor and Facility: SWEPI LP (Tioga River—Tioga Junction), Lawrence Township, Tioga County, PA. Renewal of surface water withdrawal of up to 0.107 mgd (peak day) (Docket No. 20080606).

21. Project Sponsor and Facility: Talisman Energy USA Inc. (Chemung River), Town of Chemung, Chemung County, NY. Modification and renewal of surface water withdrawal of up to 2.000 mgd (peak day) (Docket No. 20080605).

22. Project Sponsor and Facility: Tennessee Gas Pipeline Company (Susquehanna River), Asylum Township, Bradford County, PA. Surface water withdrawal of up to 1.080 mgd (peak day) and consumptive water use of up to 0.030 mgd (30-day average).

23. Project Sponsor: Viking Energy of Northumberland, LLC. Project Facility: Power Plant, Point Township, Northumberland County, PA. Renewal of consumptive water use of up to 0.387 mgd (peak day); groundwater withdrawal of up to 0.173 mgd from Well 1; groundwater withdrawal of up to 0.173 mgd from Well 2; groundwater withdrawal of up to 0.173 mgd from Well 4; and a total system withdrawal limit of up to 0.350 mgd (30-day average) (Docket No. 19870301).

24. Project Sponsor and Facility: WPX Energy Appalachia, LLC (North Branch Wyalusing Creek), Middletown Township, Susquehanna County, PA. Surface water withdrawal of up to 0.750 mgd (peak day).

Project Applications Tabled

The following project applications were tabled by the Commission:

1. Project Sponsor and Facility: Aqua Resources, Inc. (Susquehanna River), Athens Township, Bradford County, PA. Application for surface water withdrawal of up to 0.900 mgd (peak day).

2. Project Sponsor and Facility: OTT North East Services, LLC (Starrucca Creek), Harmony Township, Susquehanna County, PA. Application for surface water withdrawal of up to 0.480 mgd (peak day).

Authority: Pub. L. 91-575, 84 Stat. 1509 et seq., 18 CFR parts 806, 807, and 808.

Dated: June 25, 2012.
Thomas W. Beauduy,
Deputy Executive Director.

[FR Doc. 2012-16660 Filed 7-6-12; 8:45 am]

BILLING CODE 7040-01-P